DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form Number, and OMB Number: USAF Museum System Volunteer Application/Registration; AF Form 3569; OMB Number 0701-0127.

Type of Request: Revision.

Number of Respondents: 255.

Responses Per Respondent: 1.

Annual Responses: 255.

Average Burden Per Response: 15 minutes.

Annual Burden Hours: 64.

Needs and Uses: The information collection requirement is necessary to provide: (a) The general public an instrument to interface with the USAF Museum System Volunteer Program; (b) the USAF Museum System the means with which to select respondents pursuant to the USAF Museum System Volunteer Program. The primary uses of the information collection includes the evaluation and placement of respondents within the Museum System Volunteer Program.

Affected Public: Individuals or Households.

Frequency: One-Time.

Respondent's Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: June 15, 2000.
Patricia L. Toppings,
Alternate OSD Federal Register Liaison Officer, Department of Defense.

[FR Doc. 00-17409 Filed 7-10-00; 8:45 am]

BILLING CODE 5001-10-M